DEPARTMENT OF THE INTERIOR

National Park Service

[NPS-WASO-NAGPRA-12124; 2200-1100-665]

Notice of Intent To Repatriate Cultural Items: Arizona State Museum, University of Arizona, Tucson, AZ

AGENCY: National Park Service, Interior.

ACTION: Notice.

SUMMARY: The Arizona State Museum, University of Arizona, in consultation with the appropriate Indian tribes, has determined that the cultural items meet the definition of sacred objects and objects of cultural patrimony, and repatriation to the Indian tribe stated below may occur if no additional claimants come forward. Representatives of any Indian tribe that believes itself to be culturally affiliated with the cultural items may contact the Arizona State Museum, University of Arizona.

DATES: Representatives of any Indian tribe that believes it has a cultural affiliation with the cultural items should contact the Arizona State Museum, University of Arizona at the address below by April 1, 2013.

ADDRESSES: John McClelland, NAGPRA Coordinator, Arizona State Museum, University of Arizona, P.O. Box 210026, Tucson, AZ 85721, telephone (520) 626-2950.

SUPPLEMENTARY INFORMATION: Notice is here given in accordance with the Native American Graves Protection and Repatriation Act (NAGPRA), 25 U.S.C. 3005, of the intent to repatriate cultural items in the possession of the Arizona State Museum, University of Arizona, Tucson, AZ, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In August 1912, Arizona State Museum Director Byron Cummings collected nine prayer sticks (catalog nos. 87a-c, 88a-c, 89a-c) and three prayer plumes (catalog no. 90a-c) from a Hopi Snake Dance at Oraibi, and six prayer plumes (catalog no. 91a-f) from a Hopi Flute Dance at Mishongnovi. In 1915, Dr. Cummings acquired four Hopi women's dance wands (catalog nos. 85a & b, 86a & b) at Oraibi. In 1919, Dr. Cummings collected a prayer offering (catalog no. 3973) at a Hopi village. Also in 1919, Dr. Cummings purchased four women's dance wands (catalog nos. 3899-3902) from Mrs. Elizabeth Stanley. In August 1920, Dr. Cummings collected a feather headdress (catalog no. 3975), a gourd rattle (catalog no. 3976), a tortoise shell leg rattle (catalog no. 3994), four anklets (catalog nos. 3983a & b, 3984a & b), a leather girdle (catalog no. 3987), four armbands (catalog nos. 3995a & b, 3996a & b), a necklace (catalog no. 3993), and a dance kilt (catalog no. 5436) that had been used by a Hopi Snake Priest at the village of Walpi. In 1923, Dr. Cummings collected a feather bundle (catalog no. 3974) from a Hopi village, a feather headdress (catalog no. 3977) from a Hopi Buffalo Dance, and a cornhusk ceremonial tiara (catalog no. 13136) at Walpi. In 1931, Dr. Cummings collected a feather wand (catalog no. 5588) at a Hopi village. All of the objects collected by Dr. Cummings were subsequently accessioned by the Arizona State Museum.

In 1919, the Arizona State Museum purchased a Hopi feather tuft (catalog no. 8508) from the Nelle Dermont Collection. In 1926, Harold Gladwin collected a Hopi tortoise carapace rattle (catalog no. GP399) for the Gila Pueblo Foundation. In 1926, the Gila Pueblo Foundation purchased a turtle carapace rattle (catalog no. GP4761) from Alice McAdams. In 1950, the Gila Pueblo Foundation closed and these two objects were donated to the Arizona State Museum. In 1929, an unknown donor presented a Hopi turtle shell rattle (catalog no. 18498) to the Arizona State Museum. In May 1933, the Arizona State Museum purchased a set of a Hopi Snake Priest's regalia at the village of Polacca. These objects include a sash (catalog no. 19757), two kilts (catalog nos. 19758, 19760), a medicine bundle (catalog no. 19759), a wand (catalog no. 19762), a pouch (catalog no. 19764), two anklets (catalog nos. 19761a & b), a hair tie (catalog no. 19763), and a moccasin (catalog no. 19765a). In 1943, L.F. Brady donated three Hopi prayer sticks (cat nos. E-1787-1789) to the Arizona State Museum. In 1958, Father Victor Stoner donated a Snake Dance kilt (cat no. E-3606) to the Arizona State Museum. In 1959, Mr. F.T. Alkire donated a Hopi turtle shell rattle (catalog no. 91-57-37) to the Arizona Historical Society. In 1991, the object was transferred to the Arizona State Museum as part of an exchange.

In 1965, the Arizona State Museum purchased a polychrome medicine bowl (cat no. E-6393a) and two netted gourd water bottles (cat nos. E-6393b & 6394) from Bahti Indian Arts. These objects had been used by a Mishongnovi kiva priest. In 1966, Tom Bahti donated an unused katsina mask (cat no. E-6701) to the Arizona State Museum. In 1966, Mrs. Gordon Vivian donated two prayer sticks (cat nos. E-6733-x-1, x-2) that she had obtained at the village of Hano to the Arizona State Museum. In 1966, Mrs. Edwin Carpenter donated a Hopi prayer stick (cat no. E-6858) to the Arizona State Museum. In 1969, the Arizona State Museum purchased a Hopi polychrome effigy canteen (cat no. E-8370) from W.R. Stone.

These items all appear to be Hopi by virtue of the circumstances of their acquisition, and/or through identification by Hopi cultural specialists. Specific knowledge provided by the Society Priests of the Hopi Tribe gives a positive identification to substantiate ownership of these sacred and religious items. These objects are regarded as sacred objects and as objects of cultural patrimony, which are used by the Momngwit in the Hopi villages for the practice of the Hopi Religion. The Hopi Cultural Preservation Office of the Hopi Tribe, representing the Society Priests, pursuant to section 7.(a)(2) of P.L. 101-601 and Hopi Tribal Council Resolution H-70-94, hereby asserts cultural affiliation to the sacred and religious items as described. These items are identified as sacred and religious objects, and are objects of cultural patrimony.

Determinations Made by the Arizona State Museum, University of Arizona

Officials of the Arizona State Museum, University of Arizona have determined that:

• Pursuant to 25 U.S.C. 3001(3)(C), the 72 cultural items described above are specific ceremonial objects needed by traditional Native American religious leaders for the practice of traditional Native American religions by their present-day adherents.

• Pursuant to 25 U.S.C. 3001(3)(D), the same 72 cultural items described above have ongoing historical, traditional, or cultural importance central to the Native American group or culture itself, rather than property owned by an individual.

• Pursuant to 25 U.S.C. 3001(2), there is a relationship of shared group identity that can be reasonably traced between the cultural items listed above and the Hopi Tribe of Arizona.

Additional Requestors and Disposition

Representatives of any other Indian tribe that believes itself to be culturally affiliated with the sacred objects and objects of cultural patrimony should contact John McClelland, NAGPRA Coordinator, Arizona State Museum, University of Arizona, P.O. Box 210026, Tucson, AZ 85721, telephone (520) 626-2950, before April 1, 2013. Repatriation of the sacred objects and objects of cultural patrimony to the Hopi Tribe of Arizona may proceed after that date if no additional claimants come forward.

The Arizona State Museum is responsible for notifying the Hopi Tribe of Arizona that this notice has been published.

Dated: January 15, 2013.
Sherry Hutt,
Manager, National NAGPRA Program.

[FR Doc. 2013-04770 Filed 2-28-13; 8:45 am]

BILLING CODE 4312-50-P